DEPARTMENT OF TRANSPORTATION

Federal Aviation Administration

14 CFR Part 73

[Docket No. FAA-2014-0640; Airspace Docket No. 14-ACE-4]

RIN 2120-AA66

Proposed Modification of Restricted Areas R-4501A, R-4501B, R-4501C, R-4501D, R-4501F, and R-4501H; Fort Leonard Wood, MO.

AGENCY: Federal Aviation Administration (FAA), DOT.

ACTION: Notice of proposed rulemaking (NPRM).

SUMMARY: This action proposes to modify the designated altitudes of restricted area R-4501B, Fort Leonard Wood, MO, by raising the restricted area ceiling from 1,500 feet mean seal level (MSL) in the north and 2,200 feet MSL in the south to a single altitude of 4,300 feet MSL across the entire restricted area. This action also proposes to add exclusions to the boundaries of R-4501C, R-4501F, and R-4501H to address overlapping restricted areas. Finally, this action proposes numerous administrative changes to the R-4501A and R-4501B titles and R-4501A-D, R-4501F, and R-4501H using agency information to standardize the format and information provided describing these restricted areas of the Fort Leonard Wood restricted area complex.

DATES: Comments must be received on or before November 10, 2014.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2014-0640 and Airspace Docket No. 14-ACE-4, at the beginning of your comments. You may also submit comments through the Internet at www.regulations.gov. Comments on environmental and land use aspects to should be directed to: Martha M. Miller, NEPA Program Manager, DPW Environmental Division, Fort Leonard Wood, MO 65473; telephone: (573) 596-8627.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2014-0640 and Airspace Docket No. 14-ACE-4) and be submitted in triplicate to the Docket Management System (see ADDRESSES section for address and phone number). You may also submit comments through the Internet at www.regulations.gov.

Commenters wishing the FAA to acknowledge receipt of their comments on this action must submit with those comments a self-addressed, stamped postcard on which the following statement is made: “Comments to FAA Docket No. FAA-2014-0640 and Airspace Docket No. 14-ACE-4.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at www.regulations.gov.

You may review the public docket containing the proposal, any comments received and any final disposition in person at the Dockets Office (see ADDRESSES section for address and phone number) between 9:00 a.m. and 5:00 p.m., Monday through Friday, except Federal holidays. An informal docket may also be examined during normal business hours at the office of the Operations Support Group, Central Service Center, Federal Aviation Administration, 2601 Meacham Blvd., Fort Worth, TX 76137.

Persons interested in being placed on a mailing list for future NPRMs should contact the FAA's Office of Rulemaking, (202) 267-9677, for a copy of Advisory Circular No. 11-2A, Notice of Proposed Rulemaking Distribution System, which describes the application procedure.

Background

Fort Leonard Wood, located in Pulaski County, Missouri, is one of 5 U.S. Army major basic training installations in the United States; training 50,000 to 60,000 initial military training soldiers per year. The R-4501 restricted area complex supports the military training conducted at Fort Leonard Wood with multiple firing ranges. Within the complex, R-4501B contains a number of training ranges equipped with pop up targets and electronic scoring to accommodate ammunition up to 7.62-mm.

R-4501B currently has 2 ceilings; 1,500 feet MSL in the north and 2,200 feet MSL in the south. Based on firing parameters and approved safety buffers, the U.S. Army has determined and requested the ceiling of R-4501B be increased to a single 4,300 foot MSL ceiling. This higher ceiling would ensure protection to non-participating air traffic while containing hazardous larger caliber rounds during visual and instrument meteorological conditions.

During the FAA's initial review of the proposal, a number of instances of overlapping restricted areas within the R-4501 complex were identified. To ensure the overlapping restricted areas are not active in the same volume of airspace at the same time, exclusionary language was drafted for inclusion in the R-4501C, R-4501F, and R-4501H descriptions, as proposed below.

The FAA also identified a number of editorial changes to six of the seven R-4501 complex restricted areas to standardize or correct the information contained in the existing descriptions. The proposed changes are addressed below; are administrative in nature; and do not affect the scheduling, use, or activities conducted within the restricted areas.

The Proposal

The FAA is proposing an amendment to 14 CFR part 73 to raise and establish a single ceiling to R-4501B by changing the designated altitudes from “The area north of a line between lat. 37°42′51″ N., long. 92°06′48″ W.; and lat. 37°42′53″ N., long. 92°09′18″ W., surface to 1,500 feet MSL. The area south of this line, surface to 2,200 feet MSL.” to “Surface to 4,300 feet MSL.” for the entire restricted area. This proposed amendment is necessary to ensure containment of hazardous range operations using 7.62-mm caliber ammunition that could ricochet 2,500 feet above ground level and exceed the ceiling of the existing restricted area.

The boundaries for R-4501C, R-4501F, and R-4501H would add exclusions to prevent overlapping restricted areas from being active in the same airspace at the same time. R-4501C would add “excluding R-4501B when active”; R-4501F would add “excluding R-4501A, R-4501B, and R-4501C when active”; and R-4501H would add “excluding R-4501B when active”.

Additionally, to standardize the format and information contained in the descriptions for the Fort Leonard Wood R-4501 complex, this action would remove the word “West” in the R-4501A title and remove the word “East” in the R-4501B title. The restricted area using agency name changes in R-4501A, R-4501B, R-4501C, and R-4501D would preface the existing using agency information with “U.S. Army”, and the using agency name changes in R-4501F and R-4501H would update the existing “Headquarters U.S. Army Training Center” to “Commanding General.” These administrative changes would not affect the scheduling, use, or activities conducted within the restricted areas.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would modify the restricted area airspace at Fort Leonard Wood, Missouri, to enhance aviation safety and accommodate essential U.S. Army training requirements.

Environmental Review

This proposal will be subjected to an environmental analysis in accordance with FAA Order 1050.1E, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.45 Missouri [Amended]

2. § 73.45 is amended as follows:

R-4501A Fort Leonard Wood West, MO [Removed]

R-4501B Fort Leonard Wood East, MO [Removed]

R-4501A Fort Leonard Wood, MO [New]

Boundaries. Beginning at lat. 37°41′06″ N., long. 92°09′18″ W.; to lat. 37°38′15″ N., long. 92°09′18″ W.; to lat. 37°37′35″ N., long. 92°10′38″ W.; to lat. 37°36′15″ N., long. 92°10′38″ W.; to lat. 37°36′15″ N., long. 92°15′22″ W.; to lat. 37°39′28″ N., long. 92°15′22″ W.; to lat. 37°41′07″ N., long. 92°14′24″ W.; to the point of beginning.

Designated altitudes. Surface to but not including 2,200 feet MSL.

Time of designation. 0630-2100 Monday-Saturday; other times by NOTAM issued at least 24 hours in advance.

Controlling agency. FAA, Kansas City ARTCC.

Using agency. U.S. Army, Commanding General, Fort Leonard Wood, MO.

R-4501B Fort Leonard Wood, MO [New]

Boundaries. Beginning at lat. 37°43′00″ N., long. 92°06′56″ W.; to lat. 37°42′11″ N., long. 92°06′15″ W.; to lat. 37°39′07″ N., long. 92°06′18″ W.; to lat. 37°38′15″ N., long. 92°09′18″ W.; to lat. 37°43′02″ N., long. 92°09′18″ W.; to the point of beginning.

Designated altitudes. Surface to 4,300 feet MSL.

Time of designation. 0630-2200 Monday-Saturday; other times by NOTAM issued at least 24 hours in advance.

Controlling agency. FAA, Kansas City ARTCC.

Using agency. U.S. Army, Commanding General, Fort Leonard Wood, MO.

R-4501C Fort Leonard Wood, MO [Amended]

Boundaries. Beginning at lat. 37°41′00″ N., long. 92°16′11″ W.; to lat. 37°41′26″ N., long. 92°10′16″ W.; to lat. 37°40′16″ N., long. 92°07′06″ W.; to lat. 37°38′20″ N., long. 92°06′56″ W.; to lat. 37°36′07″ N., long. 92°10′28″ W.; to lat. 37°35′22″ N., long. 92°15′32″ W.; to the point of beginning, excluding R-4501B when active.

Designated altitudes. From 2,200 feet MSL to 5,000 feet MSL.

Time of designation. 0900-2100 Monday; 0900-1600 Tuesday-Friday; other times by NOTAM issued at least 24 hours in advance.

Controlling agency. FAA, Kansas City ARTCC.

Using agency. U.S. Army, Commanding General, Fort Leonard Wood, MO.

R-4501D Fort Leonard Wood, MO [Amended]

Boundaries. Beginning at lat. 37°41′00″ N., long. 92°16′11″ W.; to lat. 37°41′26″ N., long. 92°10′16″ W.; to lat. 37°40′16″ N., long. 92°07′06″ W.; to lat. 37°38′20″ N., long. 92°06′56″ W.; to lat. 37°36′07″ N., long. 92°10′28″ W.; to lat. 37°35′22″ N., long. 92°15′32″ W.; to the point of beginning.

Designated altitudes. From 5,000 feet MSL to 12,000 feet MSL.

Time of Designation. 0900-2100 Monday; 0900-1600 Tuesday-Friday; other times by NOTAM issued at least 24 hours in advance.

Controlling agency. FAA, Kansas City ARTCC.

Using agency. U.S. Army, Commanding General, Fort Leonard Wood, MO.

* * * * *

R-4501F Fort Leonard Wood, MO [Amended]

Boundaries. Beginning at lat. 37°41′00″ N., long. 92°09′05″ W.; to lat. 37°41′00″ N., long. 92°10′53″ W.; to lat. 37°43′02″ N., long. 92°12′11″ W.; to lat. 37°43′10″ N., long. 92°08′46″ W.; to the point of beginning, excluding R-4501A, R-4501B, and R-4501C when active.

Designated altitudes. Surface to 3,200 feet MSL.

Time of designation. 0700-1800 daily; other times by NOTAM issued at least 24 hours in advance.

Controlling agency. FAA, Kansas City ARTCC.

Using agency. U.S. Army, Commanding General, Fort Leonard Wood, MO.

R-4501H Fort Leonard Wood, MO [Amended]

Boundaries. Beginning at lat. 37°42′50″ N., long. 92°07′21″ W.; to lat. 37°44′00″ N., long. 92°07′16″ W.; to lat. 37°44′45″ N., long. 92°05′41″ W.; to lat. 37°44′50″ N., long. 92°04′49″ W.; to lat. 37°46′15″ N., long. 92°05′31″ W.; to lat. 37°47′45″ N., long. 92°06′01″ W.; to lat. 37°48′00″ N., long. 92°06′01″ W.; to lat. 37°48′00″ N., long. 92°02′41″ W.; thence south and along the Big Piney River and Reservation boundary; to lat. 37°42′30″ N., long. 92°04′06″ W.; to lat. 37°42′15″ N., long. 92°06′06″ W.; to the point of beginning, excluding R-4501B when active.

Designated altitudes. Surface to 3,200 feet MSL.

Time of designation. 1500-1600 Wednesday; other times by NOTAM.

Controlling agency. FAA, Kansas City ARTCC.

Using agency. U.S. Army, Commanding General, Fort Leonard Wood, MO.

Issued in Washington, DC, on September 18, 2014.
Paul Gallant,
Acting Manager, Airspace Policy and Regulations Group.

[FR Doc. 2014-22884 Filed 9-24-14; 8:45 am]

BILLING CODE 4910-13-P